DEPARTMENT OF TRANSPORTATION

Federal Motor Carrier Safety Administration

[FMCSA-2008-0232]

Commercial Driver's License: Commonwealth of Virginia, Department of Motor Vehicles; Application for Exemption

AGENCY: Federal Motor Carrier Safety Administration (FMCSA), DOT.

ACTION: Notice of application for exemption; request for comments.

SUMMARY: FMCSA has received an application from the Commonwealth of Virginia Department of Motor Vehicles (Virginia DMV) for an exemption from provisions of the Agency's commercial driver's license (CDL) requirement that each CDL issued by the State contain a color photograph of the driver. Virginia DMV proposes that it be allowed to use a black and white, laser-engraved photograph in lieu of a color photograph. Virginia DMV believes that the issuance of CDLs with laser-engraved black and white photographs would enhance the security of the credential and assist law enforcement officials with the identification of the CDL holder. The FMCSA requests public comment on Virginia DMV's application for exemption.

DATES: Comments must be submitted on or before September 4, 2008.

ADDRESSES: You may submit comments identified by Federal Docket Management System Number [FMCSA-2008-0232] by any of the following methods:

• Web Site: http://www.regulations.gov. Follow the instructions for submitting comments on the Federal electronic docket site.

• Fax: 1-202-493-2251.

• Mail: Docket Management Facility, U.S. Department of Transportation, Room W12-140, 1200 New Jersey Avenue, SE., Washington, DC 20590-0001.

• Hand Delivery: Ground Floor, Room W12-140, DOT Building, 1200 New Jersey Avenue, SE., Washington, DC, between 9 a.m. and 5 p.m. e.t., Monday through Friday, except Federal holidays.

Instructions: All submissions must include the Agency name and docket number. For detailed instructions on submitting comments and additional information on the exemption process, see the Public Participation heading below. Note that all comments received will be posted without change to http://www.regulations.gov, including any personal information provided. Please see the Privacy Act heading below.

Docket: For docket access to read background documents or comments received, go to http://www.regulations.gov at any time or to the ground floor, room W12-140, DOT Building, New Jersey Avenue, SE., Washington, DC, between 9 a.m. and 5 p.m. e.t., Monday through Friday, except Federal holidays.

Privacy Act: Anyone is able to search the electronic form of all comments received into any of our dockets by the name of the individual submitting the comment (or signing the comment, if submitted on behalf of an association, business, labor union, etc.). You may review DOT's complete Privacy Act Statement in the Federal Register published on April 11, 2000 (65 FR 19476), or you may visit http://www.regulations.gov.

Public participation: The http://www.regulations.gov Web site is generally available 24 hours each day, 365 days each year. You can get electronic submission and retrieval help and guidelines under the “help” section of the http://www.regulations.gov Web site and also at the DOT's http://docketsinfo.dot.gov Web site. If you want us to notify you that we received your comments, please include a self-addressed, stamped envelope or postcard, or a copy of print the acknowledgement page that appears after submitting comments online.

FOR FURTHER INFORMATION CONTACT: Mr. Thomas Yager, Chief, FMCSA Driver and Carrier Operations Division, Office of Bus and Truck Standards and Operations. Telephone: 202-366-4325. E-mail: MCPSD@dot.gov.

SUPPLEMENTARY INFORMATION:

Background

Section 4007 of the Transportation Equity Act for the 21st Century (Pub. L. 105-178, 112 Stat. 107, June 9, 1998) amended 49 U.S.C. 31315 and 31136(e) to provide authority to grant exemptions from motor carrier safety regulations. Under its regulations, FMCSA must publish a notice of each exemption request in the Federal Register (49 CFR 381.315(a)). The Agency must provide the public an opportunity to inspect the information relevant to the application, including any safety analyses. The Agency must also provide an opportunity for public comment on the request.

The Agency reviews the safety analyses and the public comments, and determines whether granting the exemption would likely achieve a level of safety equivalent to, or greater than, the level that would be achieved by the current regulation (49 CFR 381.305). The decision of the Agency must be published in the Federal Register (49 CFR 381.315(b)) with the reason for denying or, in the alternative, the specific person or class of persons receiving the exemption, and the regulatory provision or provisions from which the exemption is granted. The notice must also specify the effective period of the exemption (up to 2 years), and explain the terms and conditions of the exemption. The exemption may be renewed (49 CFR 381.300(b)).

Request for Exemption

Virginia DMV requests an exemption from 49 CFR 383.153(a)(4), which requires each CDL to contain a color photograph of the driver. A copy of the exemption application is in the docket referenced at the beginning of this notice. Virginia DMV proposes that it be allowed to use a black and white, laser-engraved photograph on Virginia-issued CDLs in lieu of a color photograph. In its application for exemption, Virginia DMV explains that in January 2008, the Department of Homeland Security (DHS) issued the final rules on the REAL ID Act of 2005. As provided in the DHS rules 6 CFR 37.17(e)(2) provides that the photographs on REAL ID compliant driver's licenses and identification cards “may be in black and white or color.”

Virginia DMV believes that a black and white photograph is more effective than a color photograph in providing security and facilitating the proper identification of the license holder. It explains that a black and white photograph created with a laser cannot easily be altered. In addition, Virginia DMV explains that a black and white photograph enhances the identification of an individual since it places the focus on the actual facial features of the individual rather than on characteristics that can easily be altered, such as hair or eye color. Virginia DMV believes that the issuance of CDLs with black and white photographs would enhance the security of the credential and assist law enforcement officials with the identification of the CDL holder. In its application for exemption Virginia DMV provides information from its contractor, CBN Secure Technologies, Inc., that offers further explanation regarding the advantages of using black and white photographs on CDLs.

Virginia DMV's proposed exemption would apply to all CDLs issued by the Commonwealth of Virginia. Presently, approximately 216,000 Virginians hold valid CDLs. Virginia DMV anticipates that, if the requested exemption is granted, it would begin issuing CDLs with black and white photographs in January 2009.

Request for Comments

In accordance with 49 U.S.C. 31315(b)(4) and 31136(e), FMCSA requests public comment on Virginia DMV's application for an exemption from 49 CFR 383.153(a)(4).

The Agency will consider all comments received by close of business on September 4, 2008. Comments will be available for examination in the docket at the location listed under the ADDRESSES section of this notice. The Agency will consider to the extent practicable comments received in the public docket after the closing date of the comment period.

Issued on: July 25, 2008.
Larry W. Minor,
Associate Administrator for Policy and Program Development.

[FR Doc. E8-17860 Filed 8-4-08; 8:45 am]

BILLING CODE 4910-EX-P